FEDERAL COMMUNICATIONS COMMISSION

47 CFR Parts 2 and 15

[GN Docket No. 12-268; FCC 14-50]

Expanding the Economic and Innovation Opportunities of Spectrum Through Incentive Auctions

AGENCY: Federal Communications Commission.

ACTION: Final rule; announcement of effective date.

SUMMARY: On August 15, 2014, the Commission released a Report and Order, “Expanding the Economic and Innovation Opportunities of Spectrum Through Incentive Auctions.” This document announces an effective date for several sections in the final regulations that appeared in the Federal Register on August 15, 2014 (79 FR 48442).

DATES: 47 CFR 2.1033(c)(19)(iii); 15.713(b)(2)(iv) and 15.713(h)(10), published in the Federal Register on August 15, 2914 (79 FR 48442) are effective December 11, 2014.

FOR FURTHER INFORMATION CONTACT: Nancy Brooks, Office of Engineering and Technology, (202) 418-2454 or email Nancy.Brooks@fcc.gov.

SUPPLEMENTARY INFORMATION:

Background

The final regulations that are the subject of this document relate to “Expanding the Economic and Innovation Opportunities of Spectrum Through Incentive Auctions” under the dates section for §§ 2.1033(c)(19)(iii); 15.713(b)(2)(iv) and 15.713(h)(10) of the rules.

Need for Correction

As published, the Dates section contains errors, which may prove to be misleading.

In the Dates section of the Federal Register §§ 2.1033(c)(19)(iii); 15.713(b)(2)(iv) and 15.713(h)(10) were inadvertently listed with sections that were not yet effective. These sections do not contain new or modified information collection requirements that require approval by the Office of Management and Budget.

Federal Communications Commission.
Marlene H. Dortch,
Secretary.

[FR Doc. 2014-28896 Filed 12-10-14; 8:45 am]

BILLING CODE 6712-01-P